DEPARTMENT OF THE INTERIOR

Bureau of Ocean Energy Management

[Docket No. BOEM-2023-0065]

Notice of Availability of a Draft Environmental Assessment for Commercial Wind Lease Issuance on the Pacific Outer Continental Shelf, Oregon; Extension of Comment Period

AGENCY: Bureau of Ocean Energy Management, Interior.

ACTION: Draft environmental assessment; extension of the comment period.

SUMMARY: The Bureau of Ocean Energy Management (BOEM) announces a two-week extension of the comment period for the availability of a draft environmental assessment (EA) to consider the potential environmental impacts associated with possible wind energy-related leasing and grant issuance, site assessment, and site characterization activities on the U.S. Pacific Outer Continental Shelf (OCS) offshore Oregon. This notice of extension of the comment period for the notice of availability (NOA) announces the end of the extended comment period, as well as the dates and times for public meetings on the draft EA. After BOEM holds public meetings and addresses public comments submitted during the review period, BOEM will publish a final EA. The EA will inform BOEM's decision on whether to issue wind energy leases and grants in the Pacific wind energy areas (WEAs) offshore Oregon.

DATES: BOEM published the Notice of Availability (NOA) for the EA on May 1, 2024 at 89 FR 35220, and opened a public comment period through May 31, 2024. BOEM is extending this public comment period to June 14, 2024, 8:59 p.m., Pacific time or 11:59 p.m., eastern time.

BOEM's virtual public meeting will be held on the following date at the time indicated: Wednesday, June 5, 2024, 4 p.m., Pacific time.

Please go to https://www.boem.gov/oregonea for additional information and updates. Meetings are open to the public and free to attend.

ADDRESSES: The draft EA and detailed information about BOEM's actions related to offshore wind energy planning in Oregon can be found on BOEM's website at https://www.boem.gov/oregon. Comments can be submitted in any of the following ways:

• Through the regulations.gov web portal: Navigate to http://www.regulations.gov and search for docket no. BOEM-2023-0065. Click on the “Comment” button below the document link and follow online instructions. Enter your information and comment, then click “Submit Comment.” A commenter's checklist is available on the comment web page;

• Orally during the public meetings identified in this announcement; or

• In written form by mail or any other delivery service, enclosed in an envelope labeled “Oregon Wind Leasing EA” and addressed to Chief, Environmental Analysis Section, Bureau of Ocean Energy Management, Camarillo, California Office, 760 Paseo Camarillo, Suite 102, Camarillo, CA 93010.

FOR FURTHER INFORMATION CONTACT: Lisa Gilbane, Chief, Environmental Analysis Section, Bureau of Ocean Energy Management, Camarillo, California Office, 760 Paseo Camarillo, Suite 102, Camarillo, CA 93010, (805) 384-6387 or lisa.gilbane@boem.gov.

SUPPLEMENTARY INFORMATION: Comments already submitted in response to the May 1, 2024, NOA do not need to be resubmitted. BOEM discourages the submittal of anonymous comments.

Please refer to the NOA published in the Federal Register (89 FR 35220) on May 1, 2024, for further information.

Please include your name and address as part of your comment. BOEM makes all comments in their entirety, including the names and addresses of respondents, available for public review online and during regular business hours. You may request that BOEM withhold your name, address, or any other personal identifiable information (PII) included in your comment from the public record. However, BOEM cannot guarantee that it will be able to do so. If you wish your name, address, or other PII to be withheld, you must state your request prominently in a cover letter and explain the harm that you fear from its disclosure such as unwarranted privacy invasion, embarrassment, or injury. All submissions from organizations or businesses and from individuals identifying themselves as representatives or officials of organizations or businesses will be made available for public inspection in their entirety.

Even if BOEM withholds your PII in the context of this notice, your comment is subject to the Freedom of Information Act (FOIA) (5 U.S.C. 552). Your information will only be withheld if a determination is made that one of the FOIA exemptions to disclosure applies. Such a determination will be made in accordance with the Department's FOIA implementing regulations (43 CFR part 2) and applicable law.

BOEM protects business confidential information in accordance with the Freedom of Information Act (5 U.S.C. 552) and the Department of the Interior's implementing regulations (43 CFR part 2 and 30 CFR part 585).

Authority: 42 U.S.C. 4231 et seq. (NEPA, as amended) and 40 CFR 1506.6.

Douglas Boren,
Regional Director, Camarillo, California Office, Bureau of Ocean Energy Management.

[FR Doc. 2024-12022 Filed 5-30-24; 8:45 am]

BILLING CODE 4340-98-P